DEPARTMENT OF LABOR

Employment and Training Administration

[TA-W-58,935]

WSW Company of Sharon, Inc., a Subsidiary of Wormser Company, Sharon, TN; Notice of Negative Determination on Reconsideration

On May 10, 2006, the Department issued an Affirmative Determination Regarding Application for Reconsideration for the workers and former workers of the subject firm. The Notice was published in the Federal Register on May 19, 2006 (71 FR 29184).

The petition for Trade Adjustment Assistance (TAA), dated February 28, 2006, filed on behalf of workers of WSW Company of Sharon, Inc., a Subsidiary of Wormser Company, Sharon, Tennessee (subject facility) was denied because, during the relevant period, the workers did not produce an article within the meaning of the Trade Act and did not support a domestic production facility that was import-impacted. While the subject facility was previously certified for TAA (TA-W-51,848), the certification expired prior to the petition date (expired on June 30, 2005).

In the request for reconsideration, the petitioners assert that, during the relevant period, they were engaged in activity related to the production of an article (children's sleepwear) manufactured by Wormser Company (subject firm).

During the reconsideration investigation, the Department confirmed that domestic production had ceased in 2004 and, therefore, determined that production did not take place at the subject facility during the relevant period.

In subsequent submissions, the petitioners asserted that they produced “pick tickets” (internal-use distribution documents) and labels used for shipping. Although the workers' activities resulted in printed material, this material is incidental to the provision of distribution services. The Department has consistently determined that items produced as a result of the provision of services are not marketable and not an article for purposes of the Trade Act.

Further, information provided by the petitioners reveal that the activities in which they were engaged supported a domestic warehousing and shipping facility, not a production facility.

Conclusion

After review of the application and investigative findings, I conclude that there has been no error or misinterpretation of the law or of the facts which would justify reconsideration of the Department of Labor's prior decision. Accordingly, the application is denied.

Signed at Washington, DC, this 27th day of July 2006.
Elliott S. Kushner,
Certifying Officer, Division of Trade Adjustment Assistance.

[FR Doc. E6-12621 Filed 8-3-06; 8:45 am]

BILLING CODE 4510-30-P